DEPARTMENT OF ENERGY

Federal Energy Regulatory Commission

[Docket Nos. EL98-36-000 and ER91-569-009]

Aquila Power Corporation v. Entergy Services, Inc., as Agent for Entergy Arkansas, Inc., Entergy Louisiana, Inc., Entergy Mississippi, Inc., Entergy New Orleans, Inc., Entergy Gulf States, Inc. and Entergy Services, Inc.; Notice of Issuance of Order

March 20, 2000.

On March 16, 2000, the Commission issued an Order Granting In Part, And Denying In Part, Complaint (Order), in the above-docketed proceedings. The Order found, Inter alia, that Entergy violated section 28.2 of the pro forma tariff but stated that the more appropriate forum for evaluating whether Entergy still lacks market power is in Docket No. ER91-569-009.

Ordering paragraph (C) of the Order states as follows: Aquila and other interested persons may raise or elaborate on the issue discussed in the body of this order in Docket No. ER91-569-009, by filing comments in that proceeding addressing this issue within thirty (30) days of the date of issuance of this order.

Notice is hereby given that the deadline for complying with ordering paragraph (C) above, is April 17, 2000.

Copies of the full text of the Order are available from the Commission's Public Reference Branch, 888 First Street, N.E., Washington, D.C. 20426. The Order may also be viewed on the Internet at http://www.ferc.fed.us/online/rims.htm (call 202-208-2222 for assistance).

David P. Boergers,
Secretary.

[FR Doc. 00-7312 Filed 3-23-00; 8:45 am]

BILLING CODE 6717-01-M